DEPARTMENT OF ENERGY

Federal Energy Regulatory Commission

Combined Notice of Filings #1

Take notice that the Commission received the following electric corporate filings:

Docket Numbers: EC12-58-000.

Applicants: Endure Energy, L.L.C.

Description: Application for Authorization Under Section 203 of the Federal Power Act, and Request for Confidential Treatment, Expedited Consideration and Waivers of Endure Energy, L.L.C.

Filed Date: 1/13/12.

Accession Number: 20120113-5360.

Comments Due: 5 p.m. ET 2/3/12.

Take notice that the Commission received the following electric rate filings:

Docket Numbers: ER11-3274-001.

Applicants: Entergy Arkansas, Inc.

Description: Entergy Arkansas, Inc. submits tariff filing per 35: Attachment H Schedule 7 Compliance Filing to be effective 6/1/2011.

Filed Date: 1/13/12.

Accession Number: 20120113-5304.

Comments Due: 5 p.m. ET 2/3/12.

Docket Numbers: ER11-3967-003

Applicants: Southwest Power Pool, Inc.

Description: Southwest Power Pool, Inc. submits tariff filing per 35: Errata Filing to Order No. 741 Compliance Filing to be effective 10/1/2011.

Filed Date: 1/13/12.

Accession Number: 20120113-5233.

Comments Due: 5 p.m. ET 2/3/12.

Docket Numbers: ER11-4266-003.

Applicants: Richland-Stryker Generation LLC.

Description: Notice of Non-Material Change in Status of Richland-Stryker Generation LLC.

Filed Date: 1/13/12.

Accession Number: 20120113-5363.

Comments Due: 5 p.m. ET 2/3/12.

Docket Numbers: ER11-4423-001.

Applicants: Lockport Energy Associates, L.P.

Description: Supplemental Information of Lockport Energy Associates, L.P.

Filed Date: 1/13/12.

Accession Number: 20120113-5193.

Comments Due: 5 p.m. ET 2/3/12.

Docket Numbers: ER12-721-001.

Applicants: PJM Interconnection, L.L.C.

Description: PJM Interconnection, L.L.C. submits tariff filing per 35.17(b): Errata Filing to Correct Admin Error in Tariff Record—Docket No. ER12-721-000 to be effective 2/29/2012.

Filed Date: 1/13/12.

Accession Number: 20120113-5243.

Comments Due: 5 p.m. ET 2/3/12.

Docket Numbers: ER12-811-000.

Applicants: Florida Power & Light Company.

Description: Florida Power & Light Company submits tariff filing per 35: Compliance filing of FPL and Seminole Electric Cooperative, Inc. to SA No. 162 to be effective 1/1/2012.

Filed Date: 1/13/12.

Accession Number: 20120113-5303.

Comments Due: 5 p.m. ET 2/3/12.

Docket Numbers: ER12-812-000.

Applicants: El Paso Electric Company.

Description: El Paso Electric Company submits tariff filing per 35.1: Arizona Nuclear Power Project (ANPP) Agreements to be effective 1/13/2012.

Filed Date: 1/13/12.

Accession Number: 20120113-5307.

Comments Due: 5 p.m. ET 2/3/12.

Docket Numbers: ER12-813-000.

Applicants: Southwest Power Pool, Inc.

Description: Southwest Power Pool, Inc. submits tariff filing per 35.13(a)(2)(iii: 2166R1 Westar Energy, Inc. NITSA and NOA to be effective 12/1/2011.

Filed Date: 1/13/12.

Accession Number: 20120113-5330.

Comments Due: 5 p.m. ET 2/3/12.

Docket Numbers: ER12-814-000.

Applicants: Florida Power & Light Company.

Description: Florida Power & Light Company submits tariff filing per 35.1: FPL Lee County Electric Cooperative, Inc. RS No. 324 to be effective 3/15/2012.

Filed Date: 1/13/12.

Accession Number: 20120113-5336.

Comments Due: 5 p.m. ET 2/3/12.

Take notice that the Commission received the following qualifying facility filings:

Docket Numbers: QF12-159-000.

Applicants: City of Kinston, NC.

Description: FERC Form 556 of City of Kinston—West Pharmaceutical Project.

Filed Date: 1/12/12.

Accession Number: 20120112-5170.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 17, 2012.
Nathaniel J. Davis, Sr.,
Deputy Secretary.

[FR Doc. 2012-1411 Filed 1-24-12; 8:45 am]

BILLING CODE 6717-01-P